ENVIRONMENTAL PROTECTION AGENCY

[FRL-6865-7]

Agency Information Collection Activities; EPA ICR No. 1139.06; Submission to OMB; Additional Opportunity to Comment

AGENCY: Environmental Protection Agency (EPA).

ACTION: Notice.

SUMMARY: In compliance with the Paperwork Reduction Act (PRA) (44 U.S.C. 3501 et seq.), this notice announces that the Information Collection Request (ICR) entitled: TSCA Existing Chemical Test Rules, Consent Orders, Test Rule Exemptions, and Voluntary Test Data Submissions (EPA ICR No. 1139.06, OMB No. 2070-0033) has been forwarded to the Office of Management and Budget (OMB) for review and approval pursuant to the OMB procedures in 5 CFR 1320.12. The ICR, which is abstracted below, describes the nature of the information collection and its estimated cost and burden. The Federal Register notice required under 5 CFR 1320.8(d), soliciting comments on this ICR was issued on July 28, 1999 (64 FR 40865). EPA received comments on the draft ICR during the comment period, which are addressed in the ICR.

DATES: Additional comments may be submitted on or before October 10, 2000.

FOR FURTHER INFORMATION CONTACT: Sandy Farmer at EPA by phone on (202) 260-2740, by e-mail: “farmer.sandy@epamail.epa.gov,” or by mail at the address indicated below. You may also access the ICR at http://www.epa.gov/icr/icr.htm. Please refer to EPA ICR No. 1139.06 or OMB Control No. 2070-0033.

ADDRESSES: Send comments, referencing the proper ICR number, to the following addresses: Ms. Sandy Farmer, U.S. Environmental Protection Agency, Collection Strategies Division (2822), 1200 Pennsylvania Ave, NW., Washington, DC 20460; and to: Office of Information and Regulatory Affairs, Office of Management and Budget, Attention: Desk Officer for EPA, 725 17th Street, NW., Washington, DC 20503.

SUPPLEMENTARY INFORMATION: Title: TSCA Existing Chemical Test Rules, Consent Orders, Test Rule Exemptions, and Voluntary Test Data Submissions (EPA ICR No. 1139.06; OMB Control No. 2070-0033).

Review Requested: This is a request under 5 CFR 1320.12 to renew an existing ICR currently scheduled to expire on August 31, 2000. Under 5 CFR 1320.10(e)(2), the Agency may continue to conduct or sponsor the collection of information while the submission is pending at OMB.

Abstract: This data collection program is designed to provide EPA with necessary test data on health effects, ecological effects and environmental fate to predict the probable impacts on human health or the environment of chemicals that may present an unreasonable risk to which there is substantial exposure or release. Section 4 of the Toxic Substances Control Act (TSCA) provides the authority for collecting this test data, and is intended to assure that chemicals that may pose serious risks to human health or the environment undergo testing by manufacturers or processors, and that the results of such testing are made available to EPA. EPA uses the information collected to assess risks associated with the manufacture, processing, distribution, use or disposal of a chemical, and to support any necessary regulatory action with respect to that chemical.

The Agency may obtain the needed test data (1) by issuing a test rule through notice and comment rulemaking, (2) through negotiation with industry and issuing an Enforceable Consent Agreement (ECA), or (3) through commitments from industry as Voluntary Testing Agreements (VTAs). The testing specified in a rule or ECA issued under TSCA section 4, or any testing identified in a VTA, only needs to be conducted once for each specified chemical. As such, only one of the entities that manufacture, import, or process the specified chemical, or a consortia formed by these entities, will conduct the specified testing and report the results of that testing to EPA. An entity subject to a test rule may also apply for an exemption from the testing requirement if that testing will be or has been performed by another party.

Responses to the collection of information specified in a rule issued under TSCA section 4 are mandatory (see 40 CFR part 790), while response to a consent order issued under TSCA section 4 is only mandatory for the participants in the ECA. Participating in a VTA is voluntary. The export notification provisions apply to any exporter of a chemical subject to a rule or consent order issued under TSCA section 4, regardless of their participation in the ECA or any related testing consortia.

Respondents may claim all or part of a document confidential. EPA will disclose information that is covered by a claim of confidentiality only to the extent permitted by, and in accordance with, the procedures in TSCA section 14 and 40 CFR part 2.

Burden Statement: The annual public burden for this collection of information is estimated to average 68.36 hours per response. According to the PRA, “burden” means the total time, effort, or financial resources expended by persons to generate, maintain, retain, or disclose or provide information to or for a Federal agency. For this collection it includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

An Agency may not conduct or sponsor, and a person is not required to respond to a collection of information that is subject to approval under the Paperwork Reduction Act, unless it displays a currently valid OMB control number. The OMB control numbers for EPA's information collections appear as part of the collection instruments (i.e., form or instructions), in the Federal Register notices for related rulemaking and ICR notices, and, if the collection is contained in a regulation, in a table of OMB approval numbers in 40 CFR Part 9.

The ICR provides a detailed explanation of the burden and cost estimates for this ICR, which are only briefly summarized here:

Respondents/affected entities: Entities potentially affected by this action are companies that manufacture, process, import, use, distribute or dispose of chemicals.

Estimated Number of Potential Respondents: 128.

Estimated Number of Responses per Respondent: One, per occasion.

Frequency of Response: On occasion.

Estimated Total Annual Burden: 1,182,574 hours.

Estimated Total Annual Non-labor Costs: $0.

Changes in the ICR Since the Last Approval: There is an increase of 1,106,124 hours in the estimated total annual burden for this ICR, from 76,450 hours currently in the OMB inventory to 1,182,574 hours requested in this ICR. This increase, and the corresponding increase in the costs, are described in detail in the ICR document. In short, this increase is the result of a program related to the two new VTAs recently initiated, the voluntary HPV Challenge Program and the voluntary children's health testing program.

According to the procedures prescribed in 5 CFR 1320.12, EPA has submitted this ICR to OMB for review and approval. Any comments related to the renewal of this ICR should be submitted within 30 days of this notice, as described above.

Dated: August 30, 2000.
Oscar Morales,
Director, Collection Strategies Division.

[FR Doc. 00-22973 Filed 9-6-00; 8:45 am]

BILLING CODE 6560-50-P